DEPARTMENT OF HEALTH AND HUMAN SERVICES

Centers for Disease Control and Prevention

Disease, Disability, and Injury Prevention and Control Special Emphasis Panel (SEP): Initial Review

The meeting announced below concerns Occupational Safety and Health Education and Research Centers (ERC) PAR 10-217, initial review.

In accordance with Section 10(a)(2) of the Federal Advisory Committee Act (Pub. L. 92-463), the Centers for Disease Control and Prevention (CDC) announces the aforementioned meeting:

Time and Date:

8 a.m.-5 p.m., February 29, 2012 (Closed),

8 a.m.-5 p.m., March 1, 2012 (Closed).

Place: SpringHill Suites Marriott, 3459 Buckhead Loop, NE., Atlanta, Georgia 30326, Telephone: (404) 844-4800.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Occupational Safety and Health Education and Research Centers (ERC) PAR 10-217.”

Virtual Site Visits will be conducted for University of North Carolina at Chapel Hill and University of Kentucky Research Foundation, February 27, 2012; University of California, Los Angeles and University of Alabama Birmingham, February 28, 2012 to advise and make recommendations to the Disease, Disability, and Injury Prevention and Control SEP: Occupational Safety and Health Education and Research Centers, PAR 10-217.

Contact Person For More Information: George Bockosh, M.S., Scientific Review Officer, CDC/NIOSH, 626 Cochrans Mill Road, Mailstop P-05, Pittsburgh, Pennsylvania 15236, Telephone: (412) 386-6465 AND Joan Karr, Ph.D., Scientific Review Officer, CDC/NIOSH 1600 Clifton Road, Mailstop E-74, Atlanta, Georgia 30333, Telephone: (404) 498-2506.

The Director, Management Analysis and Services Office, has been delegated the authority to sign Federal Register notices pertaining to announcements of meetings and other committee management activities, for both the Centers for Disease Control and Prevention and the Agency for Toxic Substances and Disease Registry.

Dated: January 25, 2012.
Elaine L. Baker,
Director, Management Analysis and Services Office, Centers for Disease Control and Prevention.

[FR Doc. 2012-2139 Filed 1-31-12; 8:45 am]

BILLING CODE 4163-18-P